DEPARTMENT OF ENERGY

Federal Energy Regulatory Commission

[Project No. 13011-003]

Shelbyville Hydro LLC; Notice of Application Accepted for Filing and Soliciting Motions To Intervene and Protests

Take notice that the following hydroelectric application has been filed with the Commission and is available for public inspection.

a. Type of Application: Major License.

b. Project No.: 13011-003.

c. Date filed: October 28, 2011.

d. Applicant: Shelbyville Hydro LLC (Shelbyville Hydro), a wholly-owned subsidiary of Symbiotics LLC.

e. Name of Project: Lake Shelbyville Dam Hydroelectric Project.

f. Location: On the Kaskaskia River, in Shelby County, Illinois at an existing dam owned and operated by the U.S. Corps of Engineers (Corps). The project would occupy 3.24 acres of federal lands managed by the Corps.

g. Filed Pursuant to: Federal Power Act 16 U.S.C. 791(a)-825(r).

h. Applicant Contact: Mr. Brent L. Smith, Chief Operating Officer, Symbiotics LLC, 371 Upper Terrace, Suite 2, Bend, OR 97702; Telephone (541)-330-8779.

i. FERC Contact: Lesley Kordella, (202) 502-6406 or Lesley.Kordella@ferc.gov.

j. Deadline for filing motions to intervene and protests: 60 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

l. Project Description: The project would be located at an existing dam owned and operated by the Corps (St. Louis District). The existing Lake Shelbyville Dam was constructed in 1963 for the purposes of flood control, recreation development, water supply, navigation release, and fish and wildlife conservation. In August of 1970, the Corps closed the gates to start the initial filling of the lake. The West Okaw and Kaskaskia rivers were inundated for 17 miles upstream of the dam.

The Lake Shelbyville Dam is an earthen embankment with an elevation of 643 feet above mean sea level (MSL). The dam is 3,025 feet long and rises 108 feet above the river bed. The concrete spillway is located at 593 feet MSL and is topped by three Tainter gates that are approximately 45-feet-wide by 37-feet-high. The two regulating outlet structures release water through the face of the spillway. The impoundment above the Lake Shelbyville Dam, referred to as Lake Shelbyville, varies according to flood control operations controlled by the Corps. Lake Shelbyville has a maximum storage capacity of 684,000 acre-feet. Of the 684,000 acre-feet of storage, 474,000 acre-feet have been designated for flood control. The average depth of the reservoir is 16 feet and the maximum is 67 feet.

The proposed Lake Shelbyville Project would consist of: (1) A trash rack with 4-inch spacing integrated into the Corps' existing west intake structure; (2) a steel liner installed in the Corps' existing west outlet chamber transitioning to a bifurcation; (3) a 13-foot-diameter bifurcation and a river release valve installed at the west outlet structure; (4) a 13-foot-diameter penstock at the bifurcation after which it reduces to a 12-foot-diameter, 570-foot-long steel penstock; (5) a 60-foot-long, 40-foot-wide, 68.5-foot-high reinforced concrete powerhouse containing a 6.8-megawatt Kaplan turbine-generator with a flow of 130 to 1,500 cubic feet per second (cfs) at a net head of 33 to 77 feet; (6) an approximately 25-foot-wide, 25-foot-long draft tube; (7) a 25 to 105-foot-wide, 49-foot-long tailrace; (8) a 12.47-kilovolt, 407-foot-long buried transmission line connecting the project to an existing Shelby Electric Cooperative substation located 900 feet downstream of the dam; and (9) appurtenant facilities. The project boundary would include 3.24 acres of Federal lands owned by the Corps. The annual average energy production is estimated to be 20.3 gigawatt-hours.

The project would operate in a run-of-release mode utilizing releases from Lake Shelbyville as they are dictated by the Corps, with no proposed change to the Corps' facility operation. Power generation would be seasonally variable as flow regimens and pool levels are set forth by the Corps. The project would generate power using flows between 130 and 1,500 cfs. When flows are below 130 cfs, all flows would be passed through the Corps' existing outlet structure and the project would then be offline. When flows are greater than 1,500 cfs, excess flow would be passed through the existing outlet structure.

m. Scoping: Commission staff completed the scoping process for the proposed project, including a site visit and public meeting, by letter issued on March 12, 2010. Commission staff does not intend to conduct additional scoping.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: May 10, 2012.
Kimberly D. Bose,
Secretary.

[FR Doc. 2012-11837 Filed 5-15-12; 8:45 am]

BILLING CODE 6717-01-P